SECURITIES AND EXCHANGE COMMISSION

[Release No. 34-43841; File No. SR-CTA-01-01]

Consolidated Tape Association; Notice of Filing Seventh Charges Amendment to the Second Restatement of the CTA Plan

January 12, 2001.

Pursuant to Rule 11Aa3-2 ¹ of the Securities Exchange Act of 1934 (“Act”), notice is hereby given that on January 9, 2001, the Consolidated Tape Association Plan (“CTA Plan”) participants (“Participants”) ² filed with the Securities and Exchange Commission (“Commission” or “SEC”) an amendment to the Second Restatement of the CTA Plan. In the amendment, the Participants propose to modify the Network B ticker charges.

¹ 17 CFR 240.11Aa3-2.

² Each participant of the Plan executed the amendments. The Participants include the American Stock Exchange, LLC, Boston Stock Exchange, Inc., Chicago Board Options Exchange, Inc., Chicago Stock Exchange, Inc., Cincinnati Stock Exchange, Inc., National Association of Securities Dealers, Inc., New York Stock Exchange, Inc., and Philadelphia Stock Exchange, Inc.

The Participants submitted this notice of proposed amendment to the CTA Plan, which is an effective national system plan,³ pursuant to Rule 11Aa3-2(c)(1).⁴ The Commission is publishing this notice to solicit comments from interested persons on the amendment.

³ The CTA Plan has been designated as an effective transaction reporting plan pursuant to Rule 11Aa3-1(b). 17 CFR 240.11Aa3-1(b).

⁴ 17 CFR 240.11Aa3-2(c)(1).

I. Description and Purpose of the Amendments

A. Rule 11Aa3-2 ⁵

⁵ 17 CFR 240.11Aa3-2.

Currently, CTA Network B charges $21.50 per month for the first ticker at each customer location and $13.60 for any additional tickers at that location. This tiered pricing structure is proving difficult for market data vendors to administer in the new vendor billing environment that was recently implemented by CTA Network B.⁶

⁶ See Securities Exchange Act Release No. 42444 (February 18, 2000), 65 FR 11101 (March 1, 2000).

To address this problem, CTA Network B is proposing to eliminate the “First Ticker” premium charge. Thus, there would be a single monthly ticker charge of $13.60 for each customer at each location. The change would result is a cost savings for all Network B ticker subscribers and will make it easier for vendors to charge for the data.

* * * * *

The filing of the amendment is in fulfillment of the national market system objectives regarding the dissemination of market information as anticipated by Sections 11A(a)(1)(C),⁷ 11A(a)(1)(D),⁸ and 11A(a)(3)(B) ⁹ of the Act.

⁷ 15 U.S.C. 78k-1(a)(1)(C).

⁸ 15 U.S.C. 78k-1(a)(1)(D).

⁹ 15 U.S.C. 78k-1(a)(3)(B).

B. Governing or Constituent Documents

Not applicable.

C. Implementation of Amendment

The Participants have manifested their approval of the proposed amendment to the CTA rate schedule by executing the amendment. The rate change would become effective on the first day of the month that follows the month in which the Commission approves the proposed plan amendment.

D. Development and Implementation Phases

See Item I(C).

E. Analysis of Impact on Competition

The Participants believe that the proposed amendment does not impose any burden on competition that is not necessary or appropriate in furtherance of the purposes of the Act. The Participants do not believe that the proposed plan amendment introduces terms that are unreasonably discriminatory for the purposes of Section 11A(c)(1)(D) ¹⁰ of the Act.

¹⁰ 15 U.S.C. 78k-1(c)(1)(D).

F. Written Understanding or Agreements Relating to Interpretation of, or Participation in, Plan

Not applicable.

G. Approval by Sponsors in Accordance With Plan

In accordance with Section XII(b)(iii) of the CTA Plan, each Participant has approved the fee reduction.

H. Description of Operation of Facility Contemplated by the Proposed Amendment

Not applicable.

I. Terms and Conditions of Access

See Item I(A).

J. Method of Determination and Imposition, and Amount of, Fees and Charges

See Item I(A) and the text of the amendment.

K. Method and Frequency of Processor Evaluation

Not applicable.

L. Dispute Resolution

Not applicable.

II. Rule 11Aa3-1¹¹

¹¹ 17 CFR 240.11 Aa3-1.

A. Reporting Requirements

Not applicable.

B. Manner of Collecting, Processing, Sequencing, Making Available and Disseminating Last Sale Information

Not applicable.

C. Manner of Consolidation

Not applicable.

D. Standards and Methods Ensuring Promptness, Accuracy and Completeness of Transaction Reports

Not applicable.

E. Rules and Procedures Addressed to Fraudulent or Manipulative Dissemination

Not applicable.

F. Terms of Access to Transaction Reports

See Item I(A).

G. Identification of Marketplace of Execution

Not applicable.

III. Solicitation of Comments

Interested persons are invited to submit written data, views, and arguments concerning the foregoing, including whether the proposal is consistent with the Act. Persons making written submissions should file six copies thereof with the Secretary, Securities and Exchange Commission, 450 Fifth Street, NW., Washington, DC 20549-0609. Copies of the submission, all subsequent amendments, all written statements with respect to the proposed rule change that are filed with the Commission, and all written communications relating to the proposal between the Commission and any person, other than those that may be withheld from the public in accordance with the provisions of 5 U.S.C. 552, will be available for inspection and copying in the Commission's Public Reference Room. Copies of such filing will also be available for inspection and copying at the principal office of the CTA. All submissions should refer to File No. SR-CTA-01-01 and should be submitted by February 12, 2001.

For the Commission, by the Division of Market Regulation, pursuant to delegated authority.¹²
¹² 17 CFR 200.30-3(a)(27).
Jonathan G. Katz,
Secretary.

[FR Doc. 01-1804 Filed 1-19-01; 8:45 am]

BILLING CODE 8010-01-m